DEPARTMENT OF COMMERCE

International Trade Administration

[C-570-011]

Certain Crystalline Silicon Photovoltaic Products From the People's Republic of China: Final Results of Countervailing Duty Administrative Review; 2021

AGENCY: Enforcement and Compliance, International Trade Administration, Department of Commerce.

SUMMARY: The U.S. Department of Commerce (Commerce) determines that countervailable subsidies were provided to certain producers/exporters of certain crystalline silicon photovoltaic products from the People's Republic of China (China) during the period of review January 1, 2021, through December 31, 2021.

DATES: Applicable September 13, 2023.

FOR FURTHER INFORMATION CONTACT: Gene H. Calvert, AD/CVD Operations, Office VII, Enforcement and Compliance, International Trade Administration, U.S. Department of Commerce, 1401 Constitution Avenue NW, Washington, DC 20230; telephone (202) 482-3586.

SUPPLEMENTARY INFORMATION:

Background

On March 8, 2023, Commerce published the Preliminary Results of this administrative review in the Federal Register.¹ For a description of the events that occurred since the Preliminary Results, see the Issues and Decision Memorandum.²

¹ See Certain Crystalline Silicon Photovoltaic Products from the People's Republic of China: Preliminary Results of Countervailing Duty Administrative Review; 2021, 88 FR 14331 (March 8, 2023) (Preliminary Results) and accompanying Preliminary Decision Memorandum (PDM).

² See Memorandum, “Issues and Decision Memorandum for the Final Results of the Administrative Review of the Countervailing Duty Order on Certain Crystalline Silicon Photovoltaic Products from the People's Republic of China; 2021,” dated concurrently with, and hereby adopted by, this notice (Issues and Decision Memorandum).

Scope of the Order ³

³ See Certain Crystalline Silicon Photovoltaic Products from the People's Republic of China: Antidumping Duty Order; and Amended Final Affirmative Countervailing Duty Determination and Countervailing Duty Order, 80 FR 8592 (February 18, 2015) (Order). On July 3, 2023, the scope of the Order was amended. See Crystalline Silicon Photovoltaic Products from the People's Republic of China: Final Results of Changed Circumstances Reviews, and Intent to Revoke the Antidumping and Countervailing Duty Orders, in Part, 88 FR 42686.

The merchandise covered by the Order are modules, laminates and/or panels consisting of crystalline silicon photovoltaic cells, whether or not partially or fully assembled into other products, including building integrated materials. For purposes of the Order, subject merchandise includes modules, laminates and/or panels assembled in China consisting of crystalline silicon photovoltaic cells produced in a customs territory other than China. A full description of the scope of the Order is contained in the Issues and Decision Memorandum.

Analysis of Comments Received

All issues raised by interested parties in their case and rebuttal briefs are addressed in the Issues and Decision Memorandum. A list of topics discussed in the Issues and Decision Memorandum is provided as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments submitted by interested parties and the evidence on the record, Commerce revised the calculation for the net countervailable subsidy rates for the sole company respondent in this review, Trina Solar (Changzhou) Science & Technology Co., Ltd. (Trina Solar). For a discussion of the issues, see the Issues and Decision Memorandum.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁴ For a complete description of the methodology underlying all of Commerce's conclusions, including our reliance, in part, on facts otherwise available, including adverse facts available, pursuant to sections 776(a) and (b) of the Act, see the Issues and Decision Memorandum.

⁴ See sections 771(5)(B) and (D) of the Act regarding financial contribution, section 771(5)(E) of the Act regarding benefit, and section 771(5A) of the Act regarding specificity.

Final Results of Administrative Review

In accordance with 19 CFR 351.221(b)(5), Commerce calculated a countervailable subsidy rate for Trina Solar as identified below. Because there are no other producers or exporters subject to this review, Commerce does not need to establish a rate for such companies in this review. Commerce determines the net countervailable subsidy rate for the period January 1, 2021, through December 31, 2021, is as follows:

⁵ Commerce found Trina Solar (Changzhou) Science & Technology Co., Ltd. to be cross-owned, within the meaning of 19 CFR 351.525(b)(6)(vi), among and across the following companies: Yancheng Trina Solar Guoneng Science & Technology Co., Ltd.; Trina Solar (Su Qian) Technology Co., Ltd.; Trina Solar Yiwu Technology Co., Ltd.; Trina Solar Co., Ltd.; Trina Solar (Yancheng Dafeng) Co., Ltd.; Trina Solar Science & Technology (Yancheng) Co., Ltd.; Trina Solar (Suqian) Optoelectronics Co., Ltd.; Trina Solar (Changzhou) Optoelectronic Device Co., Ltd.; Changzhou Trina Solar Yabang Energy Co., Ltd.; Hubei Trina Solar Energy Co., Ltd.; Turpan Trina Solar Energy Co., Ltd.; Trina Solar (Hefei) Science and Technology Co., Ltd.; Changzhou Hesai PV Ribbon Materials Co., Ltd.; Changzhou Hewei New Material Technology Co., Ltd.; Changzhou Trina Hezhong PV Co., Ltd.; and Changzhou Trina PV Ribbon Materials Co., Ltd. See Preliminary Results PDM at 5-7.

Producer/exporter | Subsidy rate (percent ad valorem)
Trina Solar (Changzhou) Science & Technology Co., Ltd ⁵ | 13.21

Disclosure

Commerce intends to disclose calculations and analysis performed for the final results of this administrative review within five days after the publication of this notice in the Federal Register in accordance with 19 CFR 351.224(b).

Cash Deposit Requirements

In accordance with section 751(a)(1) of the Act, Commerce intends to instruct U.S. Customs and Border Protection (CBP) to collect cash deposits of estimated countervailing duties in the amount referenced above for Trina Solar with regard to shipments of subject merchandise entered, or withdrawn from warehouse, for consumption on or after the date of publication of these final results in the Federal Register. These cash deposit requirements, effective upon publication of these final results, shall remain in effect until further notice.

Assessment Requirements

In accordance with section 751(a)(2)(C) of the Act and 19 CFR 351.212(b)(2), Commerce has determined, and CBP shall assess, countervailing duties on all appropriate entries covered by this review, for Trina Solar at the applicable ad valorem assessment rate listed. Commerce intends to issue assessment instructions to CBP no earlier than 35 days after the publication of the final results of this administrative review in the Federal Register. If a timely summons is filed at the U.S. Court of International Trade, the assessment instructions will direct CBP not to liquidate relevant entries until the time for parties to file a request for a statutory injunction has expired (i.e., within 90 days of publication).

Administrative Protective Order

This notice also serves as a final reminder to parties subject to an administrative protective order (APO) of their responsibility concerning the disposition of proprietary information disclosed under APO in accordance with 19 CFR 351.305(a)(3). Timely written notification of the return or destruction of APO materials or conversion to judicial protection order, is hereby requested. Failure to comply with the regulations and terms of an APO is a sanctionable violation.

Notification to Interested Parties

These final results are issued and published in accordance with sections 751(a)(1) and 777(i)(1) of the Act and 19 CFR 351.221(b)(5).

Dated: September 5, 2023.
Lisa W. Wang,
Assistant Secretary for Enforcement and Compliance.

Appendix

List of Topics Discussed in the Issues and Decision Memorandum

I. Summary

II. Background

III. Scope of the Order

IV. Use of Facts Available and Application of Adverse Inferences

V. Changes Since the Preliminary Results

VI. Subsidies Valuation Information

VII. Analysis of Programs

VIII. Discussion of the Issues

Comment 1: Whether the Provision of Certain Inputs for Less-Than-Adequate-Remuneration (LTAR) Programs is Countervailable

Comment 2: Whether Commerce Should Find the Provision of Electricity for LTAR Program is Countervailable

Comment 3: Whether Commerce Should Apply Adverse Facts Available to “Other Subsidies” Reported by Trina Solar

Comment 4: The Benchmark for Aluminum Extrusions for LTAR

Comment 5: The Benchmark for Ocean Freight

Comment 6: The Benchmark for Domestic Inland Freight

Comment 7: Whether Certain Trina Solar Affiliates Were Uncreditworthy

Comment 8: Whether Commerce Should Revise the Denominator for Export-Oriented Subsidies

Comment 9: Whether Commerce Should Revise the Benchmark for International Ocean Shipping Services for LTAR

IX. Recommendation

[FR Doc. 2023-19739 Filed 9-12-23; 8:45 am]

BILLING CODE 3510-DS-P